FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 20, 2007.

A. Federal Reserve Bank of Atlanta (David Tatum, Vice President) 1000 Peachtree Street, N.E., Atlanta, Georgia 30309:

1. CAP Voting Trust, Lafayette, Louisiana (the Trust); Patrick Oswell Patout, Abbeville, Louisiana, Paul D. Patout, Youngsville, Louisiana, and Raymond Paul Patout, Lafayette, Louisiana, as trustees of the Trust; Rae Meng Patout, Raymond Paul Patout, Barbara Rae Patout Landry, and Mary E. Patout Lacour, all of Lafayette, Louisiana; David Joseph Patout and Charles Arthur Patout, Jr., both of Baton Rouge, Louisiana; Patrick Oswell Patout, Abbeville, Louisiana; and Paul D. Patout, Youngsville, Louisiana; to retain voting shares of Gulf Coast Bancshares, Inc., Abbeville, Louisiana, and thereby indirectly retain voting shares of Gulf Coast Bank, Abbeville, Louisiana.

2. LF QFP, LLLP; BC Qualified Family Partnership LLLP; Mr. Paul J. Marinelli, Mr. Kevin C. Hale, Mr. Michael H. Morris, Mr. Ned C. Lautenbach, Premier Insurance, LLC; John M. Suddeth, Jr., Paul A. Belfore, HOward B. Gutman, all of Naples, Florida, and Mr. Erwin Greenberg, Owings Mills, Maryland; to acquire voting shares of Marco Community Bancorp, Inc., and thereby indirectly acquire voting shares of Marco Community Bank, both of Marco Island, Florida.

Board of Governors of the Federal Reserve System, July 31, 2007.
Robert deV. Frierson,
Deputy Secretary of the Board.

[FR Doc. E7-15088 Filed 8-2-07; 8:45 am]

BILLING CODE 6210-01-P